FEDERAL COMMUNICATIONS COMMISSION

[DA 03-3390]

Tariff Notice Requirements for Non-Dominant Carriers

AGENCY: Federal Communications Commission.

ACTION: Notice; termination of proceeding.

SUMMARY: This document provides notice of the termination of a proceeding seeking review of a 1993 Common Carrier Bureau order denying petitions to reject non-dominant carrier tariff filings on one-day's notice. The Commission's decision permissively to detariff the telecommunications services of competitive local exchange carriers moots the issues in the proceeding.

DATES: This proceeding will be terminated effective December 5, 2003, unless the Wireline Competition Bureau receives an opposition to the termination prior to that date.

ADDRESSES: Oppositions to the proceeding termination should be mailed to the Commission's Secretary through the Commission's contractor, Natek, Inc., at 236 Massachusetts Avenue, NE., Suite 110, Washington, DC 20002.

FOR FURTHER INFORMATION CONTACT: Jennifer McKee, Wireline Competition Bureau, Pricing Policy Division, (202) 418-1530.

SUPPLEMENTARY INFORMATION: On October 7, 2003, SBC filed a request to withdraw an application for review filed by its predecessor, Southwestern Bell, of the Common Carrier Bureau's (now the Wireline Competition Bureau) order denying petitions to reject non-dominant carriers' tariff filings made on one-day's notice. Based on its request to withdraw, SBC's application for review is dismissed without prejudice. 47 CFR 1.748. Verizon previously withdrew its application for review of this order, therefore it appears that there are no pending applications for review or petitions for reconsideration of the Bureau's order. The Commission's subsequent decision permissively to detariff the telecommunications services of competitive local exchange carriers moots the issues in this proceeding. Therefore, the proceeding will be terminated effective December 5, 2003, unless the Wireline Competition Bureau receives an opposition to the termination before that date.

Parties filing oppositions to the termination of this proceeding must file an original and four copies of each filing. The filings should reference the DA number of this Public Notice, DA 03-3390. Filings can be sent by hand or messenger delivery, by commercial overnight courier, or by first-class or overnight U.S. Postal Service mail (although we continue to experience delays in receiving U.S. Postal Service mail). The Commission's contractor, Natek, Inc., will receive hand-delivered or messenger-delivered paper filings for the Commission's Secretary at 236 Massachusetts Avenue, NE., Suite 110, Washington, DC 20002.

• The filing hours at this location are 8 a.m. to 7 p.m.

• All hand deliveries must be held together with rubber bands or fasteners.

• Any envelopes must be disposed of before entering the building.

• Commercial overnight mail (other than U.S. Postal Service Express Mail and Priority Mail) must be sent to 9300 East Hampton Drive, Capitol Heights, MD 20743.

• U.S. Postal Service first-class mail, Express Mail, and Priority Mail should be addressed to 445 12th Street, SW., Washington, DC 20554.

• All filings must be addressed to the Commission's Secretary, Office of the Secretary, Federal Communications Commission. Parties are also requested to send a courtesy copy of their oppositions to Jennifer McKee, Pricing Policy Division, Wireline Competition Bureau, Federal Communications Commission. Courtesy copies may also be sent via e-mail to jennifer.mckee@fcc.gov.

Authority: 47 U.S.C. 152, 153, 154, 155, 303, 307, 308, 309, 315, 317; 44 FR 18501, 67 FR 13223, 47 CFR 0.291, 1.749.

Federal Communications Commission.
William F. Maher, Jr.,
Chief, Wireline Competition Bureau.

[FR Doc. 03-27815 Filed 11-4-03; 8:45 am]

BILLING CODE 6712-01-P